DEPARTMENT OF THE INTERIOR

National Park Service

Notice of Inventory Completion: Mississippi Department of Archives and History, Historic Preservation Division, Jackson, MS

AGENCY: National Park Service, Interior.

ACTION: Notice.

Notice is here given in accordance with the Native American Graves Protection and Repatriation Act (NAGPRA), 25 U.S.C. 3003, of the completion of an inventory of human remains and associated funerary objects in the possession of the Mississippi Department of Archives and History, Historic Preservation Division, Jackson, MS. The human remains and associated funerary objects were removed from Lee County, MS.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the Mississippi Department of Archives and History, Historic Preservation Division professional staff in consultation with representatives of the Chickasaw Nation, Oklahoma.

In the summer of 1937, human remains representing a minimum of one individual were removed from the Alston-Wilson site (MLe14), by Moreau Chambers, an archeologist with the Mississippi Department of Archives and History, as part of an ongoing survey and legally authorized excavation of Chickasaw sites in Lee County, MS. The excavation and survey were undertaken to study Chickasaw culture and find the location of the Battle of Ackia as part of the process for establishing Ackia Battleground National Monument. No known individual was identified. The two associated funerary objects are one bent cuprous metal band (sheet brass ring) found around the bone fragment and one pottery sherd.

The Alston-Wilson site, now better known as MLe14 because of later excavations by Jesse Jennings in 1939 on behalf of the National Park Service, has a major occupation dating to A.D. 1730-1750. Archeological evidence found at the Alston-Wilson site suggests that this site was part of a major historic Chickasaw village. In the 1730s, there were two major villages in the vicinity of the Alston-Wilson site that were occupied by the Chickasaw: Tchichatala and Falatchao. Tchichatala was a major Chickasaw village. Falatchao was a “white mother” town meaning it was both a “white” town (or a peace town, as opposed to a “red” war town) and a “mother” town from which other towns emerged (Hudson 1976: 238-239).

Both Tchichatala and Falatchao are recognized in historical documents as being occupied by the Chickasaw. However, because of the fluid nature of Chickasaw village occupation, it is difficult to identify the specific boundaries of historic Chickasaw villages. Therefore, based on the archeological evidence that the site was part of a major Chickasaw village and at that time both villages were in the area, the Alston-Wilson site is most probably part of either the site of the village of Tchichatala or Falatchao. (Atkinson 1985, 2004; Brad Lieb, personal communication 2004; Cook et al. 1980; Jennings 1941; Johnson et al. 2004). Furthermore, based on historical evidence that Lee County, MS, where the Alston-Wilson site is located, was occupied by the Chickasaw until their removal to Oklahoma from 1837 until 1850, the site is probably Chickasaw. The Chickasaws are represented by the present-day Chickasaw Nation, Oklahoma.

Officials of the Mississippi Department of Archives and History, Historic Preservation Division have determined that, pursuant to 25 U.S.C. 3001 (9-10), the human remains described above represent the physical remains of one individual of Native American ancestry. Officials of the Mississippi Department of Archives and History, Historic Preservation Division also have determined that, pursuant to 25 U.S.C. 3001 (3)(A), the two objects described above are reasonably believed to have been placed with or near individual human remains at the time of death or later as part of the death rite or ceremony. Lastly, officials of the Mississippi Department of Archives and History, Historic Preservation Division have determined that, pursuant to 25 U.S.C. 3001 (2), there is a relationship of shared group identity that can be reasonably traced between the Native American human remains and associated funerary objects and the Chickasaw Nation, Oklahoma.

Representatives of any other Indian tribe that believes itself to be culturally affiliated with the human remains and associated funerary objects should contact Pamela D. Edwards, Curator of Archaeological Collections, Mississippi Department of Archives and History, Historic Preservation Division, P.O. Box 571, Jackson, MS 39205, telephone (601) 576-6940, before July 20, 2005. Repatriation of the human remains and associated funerary objects to the Chickasaw Nation, Oklahoma may proceed after that date if no additional claimants come forward.

The Mississippi Department of Archives and History, Historic Preservation Division is responsible for notifying the Chickasaw Nation, Oklahoma that this notice has been published.

Dated: May 31, 2005.
Sherry Hutt,
Manager, National NAGPRA Program.

[FR Doc. 05-12029 Filed 6-17-05; 8:45 am]

BILLING CODE 4312-50-S